DEPARTMENT OF ENERGY

Federal Energy Regulatory Commission

[Project No. 15009-000]

Notice of Preliminary Permit Application Accepted for Filing and Soliciting Comments, Motions To Intervene, and Competing Applications; Renewable Energy Aggregators

On October 2, 2019, Renewable Energy Aggregators filed an application for a preliminary permit, pursuant to section 4(f) of the Federal Power Act, proposing to study the feasibility of the JD Sky Pumped Storage Hydro Project to be located in Maricopa County, Arizona. Renewable Energy Aggregators subsequently amended its application on October 11, 2019. The sole purpose of a preliminary permit, if issued, is to grant the permit holder priority to file a license application during the permit term. A preliminary permit does not authorize the permit holder to perform any land-disturbing activities or otherwise enter upon lands or waters owned by others without the owners' express permission.

The proposed project would consist of the following: (1) An upper reservoir having a total storage capacity of 13,900 acre feet with a crest elevation of 3,050 feet mean sea level (msl), a maximum pool elevation of 3,040 feet msl, and a surface area of 150 acres; (2) a lower reservoir having a total storage capacity of 13,900 acre feet with a crest elevation 1,080 feet msl, a maximum pool elevation of 1,800 feet msl, and a surface area of 290 acres; (3) two 19-foot-diameter, 12,160-foot-long penstocks and two 21-foot-diameter, 3,00-foot-long tailraces; (4) a 750-foot-long, 175-foot-high, 70-foot-wide containing as many as four advanced ternary pumped storage single runner units with a total capacity of 800 megawatts; (5) twin circuit 500-kilovolt, 40-mile-long transmission lines that would connect to an existing transmission line owned by the Arizona Public Service Company or Salt River Project ¹ or extend to an interconnect at the Hassayampa or Palo Verde substations; and (6) appurtenant facilities. Initial fill and makeup water would be acquired from the Colorado River region and conveyed to the project via the existing Central Arizona Project aqueduct. The estimated annual generation of the Project would be 311,000 megawatt hours.

¹ Salt River Project is a not-for-profit water and energy company that provides water and power to more than 2 million people living in central Arizona.

Applicant Contact: Mr. Adam Rousselle, Renewable Energy Aggregators, 2113 Middle Street Suite 201, Sullivans Island, South Carolina 29482; phone: (267) 254-6107.

FERC Contact: Benjamin Mann; Email: benjamin.mann@ferc.gov; phone: (202) 502-8127.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15009-000.

More information about this project, including a copy of the application, can be viewed or printed on the “eLibrary” link of Commission's website at http://www.ferc.gov/docs-filing/elibrary.asp. Enter the docket number (P-15009) in the docket number field to access the document. For assistance, contact FERC Online Support.

Dated: December 23, 2019.
Nathaniel J. Davis, Sr.,
Deputy Secretary.

[FR Doc. 2019-28262 Filed 12-30-19; 8:45 am]

BILLING CODE 6717-01-P